DEPARTMENT OF COMMERCE

National Oceanic and Atmospheric Administration

50 CFR Part 660

[Docket No. 090428799-9802-01]

RIN 0648-XT30

Magnuson-Stevens Act Provisions; Fisheries Off West The Coast States; Pacific Coast Groundfish Fishery; Pacific Whiting Allocation; Pacific Whiting Seasons

AGENCY: National Marine Fisheries Service (NMFS), National Oceanic and Atmospheric Administration (NOAA), Commerce.

ACTION: Temporary rule; reapportionment of surplus Pacific whiting allocation; request for comments.

SUMMARY: This document announces the reapportionment of 1,325 mt of Pacific whiting from the shore-based sector to the catcher/processor sector.

DATES: The reapportionment of whiting is effective from 1200 local time (l.t.) December 7, 2009, until December 31, 2009, unless modified, superseded or rescinded. Comments will be accepted through January 4, 2010.

ADDRESSES: You may submit comments, identified by 0648-XT30 and submitted by any of the following methods:

• Electronic Submissions: Submit all electronic public comments via the Federal eRulemaking Portal http://www.regulations.gov.

• Fax: 206-526-6737, Attn: Becky Renko

• Mail: Barry A. Thom, Acting Administrator, Northwest Region, NMFS, Attn: Becky Renko, 7600 Sand Point Way NE, Seattle, WA 98115-0070.

FOR FURTHER INFORMATION CONTACT: Becky Renko, Northwest Region, NMFS, at 206 526 6110.

SUPPLEMENTARY INFORMATION:

Electronic Access

This notice is accessible via the Internet at the Office of the Federal Register's Website at http://www.gpoaccess.gov/fr/index.html.

Background

This action is authorized by regulations implementing the Pacific Coast Groundfish Fishery Management Plan (FMP), which governs the groundfish fishery off Washington, Oregon, and California.

Regulations at 50 CFR 660.323(a)(2) divide the commercial Pacific whiting OY into separate allocations for the catcher/processor, mothership, and shore-based sectors. Each commercial sector receives a portion of the commercial OY. Regulations at 50 CFR 660.323 (c) provide for the reapportionment of Pacific whiting that the Regional Administrator determines will not be used during the year.

The shore-based sector was closed on July 7, 2009 (July 28, 2008; 74 FR 37176). The best available information on July 6, 2009 indicated that the 42,063 mt allocation for the shore-based sector would be reached by 10:00 a.m. on July 7, 2009. Data received after the closure indicated that the fishing rates slowed considerably in the last few days of the fishery, resulting in 1,382 mt of unharvested shore-based allocation.

This document announces the reapportionment of 1,325 mt of shore-based allocation to the catcher/processor sector resulting in the following commercial allocations for 2009: catcher/processor 35,376 mt, mothership 24,034 mt, and shore-based 40,738 mt. Facsimiles directly to fishing businesses and postings on the Northwest Regions internet site were used to provide actual notice to the affected fishers.

Classifications

The determinations to take these actions were based on the most recent data available. The aggregate data upon which the determinations were based are available for public inspection at the Office of the Regional Administrator (see ADDRESSES) during business hours.

This action is authorized by the regulations implementing the FMP. The Assistant Administrator for Fisheries, NMFS, finds good cause to waive the requirement to provide prior notice and opportunity for comment on these actions pursuant to 5 U.S.C. 553 (3)(b)(B), because providing prior notice and opportunity would be impracticable. It would be impracticable because of the need for immediate action. NMFS has determined that providing an opportunity for prior notice and comment would be impractical and contrary to public interest. Delay of this action would leave Pacific whiting unharvested. In addition, the catcher/processors needed an immediate reallocation if they were to keep their workers employed. For these same reasons the agency finds good cause to waive the 30-day delay in effectiveness. These actions are taken under the authority of 50 CFR 660.323(c), and are exempt from review under Executive Order 12866. Actual notice of the reapportionments was provided to the affected fishers.

Authority: 16 U.S.C. 1801 et seq.

Dated: December 15, 2009.
Emily H. Menashes,
Acting Director, Office of Sustainable Fisheries, National Marine Fisheries Service.

[FR Doc. E9-30175 Filed 12-17-09; 8:45 am]

BILLING CODE 3510-22-S